DEPARTMENT OF ENERGY

Federal Energy Regulatory Commission

[Docket Nos. CP04-13-000, CP04-14-000 and CP04-15-000]

Saltville Gas Storage Company L.L.C.; Notice of Application and Site Visit

November 20, 2003.

Take notice that on November 10, 2003, Saltville Gas Storage Company L.L.C. (Saltville), located at 1096 Ole Berry Drive, Abingdon, Virginia 24201, filed in Docket Nos. CP04-13-000, CP04-14-000 and CP04-15-000, an application for certificates of public convenience and necessity and related authorizations pursuant to section 7 of the Natural Gas Act (NGA), as amended, the Federal Energy Regulatory Commission(s Rules and Regulations (Commission), and the Commission(s Order in Saltville Gas Storage Company L.L.C., 104 FERC ¶ 61,273 (2003), all as more fully set forth in the application which is on file with the Commission and open to public inspection. This filing is available for review at the Commission or may be viewed on the Commission's web site at http://www.ferc.gov using the “eLibrary” link. Enter the docket number excluding the last three digits in the docket number field to access the document. For assistance, please contact FERC Online Support at FERCOnlineSupport@ferc.gov or toll-free at (866) 208-3676, or for TTY, contact (202) 502-8659.

Saltville states that it is requesting the Commission to issue: (1) A certificate of public convenience and necessity authorizing Saltville to construct, own, operate, and maintain natural gas facilities in Saltville, Virginia necessary to provide storage services as described herein; (2) a blanket certificate pursuant to Subpart G of Part 284 authorizing Saltville to provide firm and interruptible storage services, as well as interruptible park and loan services, on behalf of others, (3) an approval of the FERC Gas Tariff and initial rates as contained in Exhibit P, pursuant to which Saltville will provide services consistent with Order Nos. 636 and 637, et seq. and will have authority to charge negotiated rates; and (4) a blanket construction certificate pursuant to subpart F of part 157.

Commission staff will conduct a site visit of the Saltville project on Wednesday, December 3, 2003 and if needed Thursday, December 4, 2003. Interested parties should meet at the Saltville plant gate, 889 Adler Lane, Saltville, Virginia 24370 at 8 a.m.

Any questions concerning this application may be directed to Steven E. Tillman, General Manager of Regulatory Affairs, Saltville Gas Storage Company L.L.C., P. O. Box 1642, Houston, Texas 77251-1642, at (713) 627-5113 or fax (713) 627-5947.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's web site under the “e-Filing” link. The Commission strongly encourages electronic filings.

Comment Date: December 11, 2003.

Magalie R. Salas,
Secretary.

[FR Doc. E3-00403 Filed 11-28-03; 8:45 am]

BILLING CODE 6717-01-P